DEPARTMENT OF TRANSPORTATION

Federal Motor Carrier Safety Administration

[Docket No. FMCSA-2021-0052]

Hours of Service (HOS) of Drivers; American Pyrotechnics Association (APA); Request To Include Additional Member Companies to Current APA HOS Exemptions

AGENCY: Federal Motor Carrier Safety Administration (FMCSA), Department of Transportation (DOT).

ACTION: Notice of application for exemptions; request for comments.

SUMMARY: FMCSA announces that it has received an application from the American Pyrotechnics Association (APA) requesting extension of its current exemptions from the Agency's hours-of-service (HOS) regulations for 12 additional member companies. The request would allow drivers employed by the 12 member carriers to exclude off-duty and sleeper-berth time of any length from the calculation of the 14-hour limit. It would also to allow these drivers to use paper records of duty status (RODS) in lieu of an electronic logging device (ELD) during the designated Independence Day periods.

DATES: Comments must be received on or before July 1, 2024.

ADDRESSES: You may submit comments identified by Federal Docket Management System (FDMS) Number FMCSA-2021-0052 by any of the following methods:

• Federal eRulemaking Portal: www.regulations.gov. See the Public Participation and Request for Comments section below for further information.

• Mail: Dockets Operations, U.S. Department of Transportation, 1200 New Jersey Avenue SE, West Building, Ground Floor, Washington, DC 20590-0001.

• Hand Delivery or Courier: West Building, Ground Floor, 1200 New Jersey Avenue SE, between 9 a.m. and 5 p.m. E.T., Monday through Friday, except Federal holidays.

• Fax: (202) 493-2251.

Each submission must include the Agency name and the docket number (FMCSA-2021-0052) for this notice. Note that DOT posts all comments received without change to www.regulations.gov, including any personal information included in a comment. Please see the Privacy Act heading below.

Docket: If you do not have access to the internet, you may view the docket by visiting Docket Operations on the ground floor of the DOT West Building, 1200 New Jersey Avenue SE, Washington, DC 20590, between 9 a.m. and 5 p.m., ET, Monday through Friday, except Federal holidays. To be sure someone is there to help you, please call (202) 366-9317 or (202) 366-9826 before visiting Dockets Operations.

Privacy Act: In accordance with 49 U.S.C. 31315(b), DOT solicits comments from the public to better inform its exemption process. DOT posts these comments, including any personal information the commenter provides, to www.regulations.gov as described in the system of records notice DOT/ALL-14 FDMS, which can be reviewed at https://www.transportation.gov/privacy. The comments are posted without edit and are searchable by the name of the submitter.

FOR FURTHER INFORMATION CONTACT: Ms. Pearlie Robinson, Driver and Carrier Operations Division; Office of Carrier, Driver and Vehicle Safety Standards, FMCSA; 1200 New Jersey Avenue SE, Washington, DC 20590-0001; (202) 366-4225; pearlie.robinson@dot.gov. If you have questions on viewing or submitting material to the docket, contact Dockets Operations at (202) 366-9826.

SUPPLEMENTARY INFORMATION:

I. Public Participation and Request for Comments

FMCSA encourages you to participate by submitting comments and related materials.

Submitting Comments

If you submit a comment, please include the docket number for this notice (FMCSA-2022-0122), indicate the specific section of this document to which the comment applies, and provide a reason for your suggestions or recommendations. You may submit your comments and material online or by fax, mail, or hand delivery, but please use only one of these means. FMCSA recommends that you include your name and a mailing address, an email address, or a phone number in the body of your document so the Agency can contact you if it has questions regarding your submission.

To submit your comment online, go to www.regulations.gov and put the docket number “FMCSA-2022-0148” in the “Keyword” box, and click “Search.” When the new screen appears, click on the “Comment” button and type your comment into the text box in the following screen. Choose whether you are submitting your comment as an individual or on behalf of a third party and then submit. If you submit your comments by mail or hand delivery, submit them in an unbound format, no larger than 8½ by 11 inches, suitable for copying and electronic filing. If you submit comments by mail and would like to know that they reached the facility, please enclose a stamped, self-addressed postcard or envelope. FMCSA will consider all comments and material received during the comment period.

Confidential Business Information (CBI)

CBI is commercial or financial information that is both customarily and actually treated as private by its owner. Under the Freedom of Information Act (5 U.S.C. 552), CBI is exempt from public disclosure. If your comments responsive to the notice contain commercial or financial information that is customarily treated as private, that you actually treat as private, and that is relevant or responsive to the notice, it is important that you clearly designate the submitted comments as CBI. Please mark each page of your submission that constitutes CBI as “PROPIN” to indicate it contains proprietary information. FMCSA will treat such marked submissions as confidential under the Freedom of Information Act, and they will not be placed in the public docket of the notice. Submissions containing CBI should be sent to Brian Dahlin, Chief, Regulatory Evaluation Division, Office of Policy, FMCSA, 1200 New Jersey Avenue SE, Washington, DC 20590-0001 or via email at brian.g.dahlin@dot.gov. At this time, you need not send a duplicate hardcopy of your electronic CBI submissions to FMCSA headquarters. Any comments FMCSA receives not specifically designated as CBI will be placed in the public docket for this notice.

II. Legal Basis

FMCSA has authority under 49 U.S.C. 31136(e) and 31315(b) to grant exemptions from Federal Motor Carrier Safety Regulations (FMCSRs). FMCSA must publish a notice of each exemption request in the Federal Register (49 CFR 381.315(a)). The Agency must provide the public an opportunity to inspect the information relevant to the application, including the applicant's safety analyses. The Agency must provide an opportunity for public comment on the request.

The Agency reviews safety analyses and public comments submitted and determines whether granting the exemption would likely maintain a level of safety equivalent to, or greater than, the level that would be achieved by the current regulation (49 CFR 381.305(a)). The Agency must publish its decision in the Federal Register (49 CFR 381.315(b)). If granted, the notice will identify the regulatory provision(s) from which the applicant will be exempt, the effective period, and all terms and conditions of the exemption (49 CFR 381.315(c)(1)). If the exemption is denied, the notice will explain the reasons for the denial (49 CFR 381.315(c)(2)).

III. Applicant's Request

The APA is a trade association representing the domestic fireworks industry. In 2022, FMCSA granted the APA exemptions from the requirements of 49 CFR 395.3(a)(2) and 395.8(a)(1)(i) for 32 of its member companies through the annual Independence Day periods ending on July 8, 2024 [87 FR 79935, December 28, 2022]. One of the 32 APA member companies, Dominion Fireworks Inc., DOT # 540485, no longer requires the exemptions, leaving the total number of companies currently covered by the exemptions at 31. APA has requested exemptions for 12 additional member companies, which would increase the total to 43 if the exemption request is granted. The 12 additional companies consist of three new member companies that have not operated under the exemptions, and nine member companies that previously held such exemptions. If granted, the exemptions would expire on July 8, 2024. The 12 additional companies, like the 31 current companies, would be subject to all of the terms and conditions of the exemptions set forth in the December 28, 2022, decision (87 FR 79935, 79937). The 12 companies combined are listed in the appendix table of this notice, including the three new companies, which are identified by asterisks.

APA member companies have held waivers or exemptions during Independence Day periods each year since 2005. Copies of the initial request for an exemption, subsequent renewal requests, and all public comments received may be reviewed at www.regulations.gov under docket numbers FMCSA-2005-21104, FMCSA-2007-28043, FMCSA-2018-0140, and FMCSA-2021-0052.

A copy of the APA's application for exemptions is available for review in the docket for this notice.

IV. Request for Comments

In accordance with 49 U.S.C. 31315(b), FMCSA requests public comment from all interested persons on APA's application for exemptions from 49 CFR 395.3(a)(2) and 395.8(a)(1)(i). All comments received before the close of business on the comment closing date indicated at the beginning of this notice will be considered and will be available for examination in the docket at the location listed under the Addresses section of this notice. Comments received after the comment closing date will be filed in the public docket and will be considered to the extent practicable. In addition to late comments, FMCSA will also continue to file, in the public docket, relevant information that becomes available after the comment closing date. Interested persons should continue to examine the public docket for new material.

Larry W. Minor,
Associate Administrator for Policy.

Appendix to Notice of Application To Include Additional Member to Current APA Exemptions From the 14-Hour and ELD HOS Rules for Independence Day Period, June 28 Through July 8, 2024, for 12 Motor Carriers

| Motor carrier | Street address | City, state, zip code | DOT No.
1 | *Extreme Logistics | 26926 Hardy Run | Boerne, TX 78015 | 1971328
2 | Hamburg Fireworks Display, Inc | 2240 Horns Mill Road SE | Lancaster, OH 43130 | 395079
3 | *Herbie's Famous Fireworks, Inc | 1406 Cherokee Falls Rd | Blacksburg, SC 29702 | 0112743
4 | J&J Computing dba Fireworks Extravaganza | 174 Route 17 North | Rochelle Park, NJ 07662 | 2064141
5 | J&M Displays, Inc | 18064 170th Ave | Yarmouth, IA 52660 | 377461
6 | Magic in the Sky, LLC | 27002 Campbellton Road | San Antonio, TX 78264 | 2134163
7 | Miand Inc. dba Planet Productions (Mad Bomber) | P.O. Box 294, 3999 Hupp Road R31 | Kingsbury, IN 46345 | 777176
8 | Rainbow Fireworks, Inc | 76 Plum Ave | Inman, KS 67546 | 1139643
9 | RKM Fireworks Company | 27383 May St | Edwardsburg, MI 49112 | 1273436
10 | *Special FX Wizard, Inc | Box 266 | Mastick Beach, NY 11951 | 3442905
11 | Starfire Corporation | 682 Cole Road | Carrolltown, PA 15722 | 554645
12 | Zambelli Fireworks MFG, Co., Inc | 120 Marshall Drive | Warrendale, PA 15086 | 033167

[FR Doc. 2024-11867 Filed 5-29-24; 8:45 am]

BILLING CODE 4910-EX-P